DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 98 FR 30106-30708, dated May 20, 2020) is amended to reflect the reorganization of the Center for Global Health, Centers for Disease Control and Prevention.

Section C-B, Organization and Functions, is hereby amended as follows:

Delete in its entirety the titles and the mission and function statements for the Division of Global Health Protection (CBBE), and insert the following:

Division of Global Health Protection (CBBE). The Division of Global Health Protection (DGHP) protects the health and well-being of Americans and populations around the world. DGHP builds public health capacity in countries and international settings to prevent disease, disability, and death from communicable and noncommunicable diseases (NCDs). DGHP helps to ensure global health protection and security through supporting the implementation of the International Health Regulations (IHR); developing and supporting in-country programs including Global Health Security (GHS) programs, Global Disease Detection Centers, Field Epidemiology Training Programs, and National Public Health Institutes (NPHIs); detecting emerging health threats; advancing NCD prevention and control; and by preparing for and responding to public health emergencies. DGHP works with partners to build strong, transparent, sustained public health systems through training, consultation, capacity building, and technical assistance in applied epidemiology, public health surveillance, policy development, informatics and health information systems, evaluation, operational and implementation research, and laboratory systems. Specifically, it: (1) Provides country-based and international coordination for disease detection, IHR implementation and public health emergency response; (2) leads the agency's global efforts to address the public health emergency continuum from prevention to detection to response through post-emergency health systems recovery; (3) provides epidemic intelligence and response capacity for early warning about international disease threats, and coordinates with partners throughout the U.S. government (USG) as well as international partners to provide rapid response; (4) provides resources and assists in developing country-level epidemiology, laboratory and other capacity to ensure country emergency preparedness and response to outbreaks and incidents of local and international importance; (5) in coordination and communication with other CDC Centers, Institute, or Offices (CIOs), leads CDC activities on global NCDs; and (6) collaborates with other divisions in CDC, Federal agencies, international agencies, partner countries and non-governmental organizations assisting Ministries of Health (MoHs) to build public health capacity for addressing communicable diseases and NCDs.

Office of the Director (CBBE1). The DGHP Office of the Director (OD) provides leadership, management, and oversight for all division activities. Specifically, it: (1) Develops the division's overall strategy and division policies on planning, evaluation, management and operations; (2) provides coordination of budgeting and liaison with the Center for Global Health (CGH) and the Office of Financial Resources (OFR) on budget development and execution; (3) ensures that CGH strategies are executed by the division and aligned with overall CDC goals; (4) develops and implements risk management framework and identifies, analyzes, and develops strategies to manage, control, and respond to risks in the division including financial, legal, political, physical, and security; (5) ensures division activities in the field are well coordinated with the CDC Country Office and supports a “one-CDC” approach at the country level; (6) ensures scientific quality, ethics and regulatory compliance; (7) evaluates strategies, focus, and prioritization of branch research, program and budget activities; (8) coordinates division policy and communication activities; (9) develops and promotes partnerships with both national and international organizations, including other USG agencies, in support of division activities; (10) ensures coordination of the division's overall activities within the division as well as with subject matter experts across CDC; (11) fosters an integrated and collaborative approach to research, program, and policy activities; (12) provides scientific leadership within the division on the evaluation of high impact global health protection strategies and the dissemination of data on these strategies; (13) facilitates CDC headquarters and international human resources activities including recruitment, hiring, orienting, deploying, and assisting with relocation of qualified staff; (14) provides workforce management and career development services for headquarters and international staff; (15) facilitates and supports response to international outbreaks through our branches, including engagement with cross-CDC subject matter experts, deployment of staff from across the agency, and 24/7 global event-based monitoring; (16) develops and implements in coordination with other CDC CIOs and USG partners, information technology solutions for emergency preparedness information management, surveillance, and executive decision support to enhance the effectiveness of public health emergency detection and response around the globe; (17) coordinates international aspects of CDC's public health preparedness and emergency response activities in collaboration with the Center for Preparedness and Response (CPR) and other CDC organizational units involved in chemical, biological, radiological and nuclear hazard preparedness and emergency response activities; (18) provides early warning on disease threats via CDC's event based surveillance and other epidemic intelligence activities conducted in partnership with USG agencies, the World Health Organization (WHO), MoHs, and other international and public health and security partners to assure IHR compliance; (19) serves as the WHO Collaborating Center for Implementation of National IHR Surveillance and Response Capacities; (20) in the context of IHR, assesses, coordinates, implements, and measures the effectiveness of international public health preparedness activities in partnership with WHO, MoHs, and USG security, development, and disaster response agencies; (21) guides the implementation of CDC's GHS program across the division and countries and ensures that CDC's activities align with interagency goals and partner country priorities; (22) in collaboration with CGH OD, manages CDC's relationships and develops partnerships with USG security (e.g., National Security Council, Department of Defense, Department of State) and development agencies (e.g., USAID) engaged in GHS activities; (23) collaborates with partners to provide vision and direction to prevent premature deaths and disabilities due to NCDs, injuries, and environmental health hazards; (24) strengthens surveillance, monitoring, evaluation, and information systems to prevent and control global NCDs, injuries, and environmental health hazards; (25) expands the evidence base, and develops and disseminates technical packages, about effective prevention and control interventions; (26) enhances workforce capacity for integrated, systematic training and technical exchange on global NCDs, injuries, and environmental health hazards; (27) leverages external partnerships and resources; (28) liaises and coordinates with other CDC CIOs engaged in global NCD activities and supports CDC's technical expertise to advance global NCD priorities; and (29) increases NCD awareness and support through strategic communication outreach.

Emergency Response and Recovery Branch (CBBEB). The Emergency Response and Recovery Branch applies public health and epidemiologic science to mitigate the impact of disasters, complex humanitarian emergencies, and other emergencies on populations and to support the recovery of health systems in these settings. Specifically, it: (1) Coordinates, supervises, and monitors CDC's work in international emergency settings and in refugee or displaced populations in collaboration with other USG agencies (e.g., Office of Foreign Disaster Assistance and Department of State), United Nations agencies, and non-governmental organizations; (2) provides direct technical assistance to refugees, internally displaced persons, and emergency-affected populations in the field, focusing on rapid health and nutrition assessments, public health surveillance, assessment of public health threats and prioritization of public health interventions, epidemic investigations, communicable disease prevention and control, program implementation, and program evaluation; (3) develops and implements operational research projects aimed at developing the most effective public health interventions for populations in emergency settings; (4) plans, implements, and evaluates training courses and workshops to help strengthen CDC technical capacity in emergency and post-emergency public health, as well as that of other USG agencies, international, non-governmental and other organizations, and schools of public health; (5) develops technical guidelines on public health issues associated with international complex humanitarian emergencies; (6) serves as the CDC liaison to maintain strong working relationships with other international, bilateral, and non-governmental relief organizations involved with humanitarian emergencies; (7) aids in health systems recovery after acute or protracted emergencies; (8) maintains a Global Rapid Response Team to enhance CDC's emergency response capacity and strengthen the global emergency workforce; (9) leads CGH's global water, sanitation and hygiene programs; and (10) coordinates and serves as the lead for emergency preparedness activities related to development of emergency operations centers with subject matter expertise from CPR.

Workforce and Institute Development Branch (CBBEC). The Workforce and Institute Development Branch collaborates with MoHs and other partners to strengthen public health systems through human and institutional capacity development. Specifically, it: (1) Leads the agency in working with MoHs to determine institutional and manpower needs for capacity in field epidemiology, surveillance, public health management, and other essential public health functions, operations and services; (2) designs, implements, and evaluates long-term career development programs in field epidemiology, public health management, and related disciplines for district, regional, and national health agencies; (3) plans, implements, coordinates, supports, and evaluates the FETP and Improving Public Health Management for Actions (IMPACT) program in partnership with MoHs and CDC Country Offices; (4) plans, supports, implements and coordinates the training and capacity building needs for specific programs such as high-impact diseases (HIV, TB, malaria), NCDs, one health, and laboratory capacity building; (5) sustains international, regional, and global networks of FETP and IMPACT programs and graduates; (6) provides CDC leadership on the establishment and strengthening of NPHIs worldwide; (7) engages subject matter experts to provide technical assistance targeted to NPHI priorities; and (8) develops tools to measure NPHI needs and assess progress in NPHI development.

Global Epidemiology, Laboratory, and Surveillance Branch (CBBED). The Global Epidemiology, Laboratory, and Surveillance Branch provides scientific leadership in epidemiology, informatics and information systems, surveillance, and laboratory capacity. Specifically, it: (1) Provides leadership, guidance, and technical assistance support and resources for global infectious disease surveillance, applied epidemiology, informatics and information systems, and laboratory research; (2) assists in the development and implementation of country-level epidemiologic, informatics, data management and analysis, surveillance, laboratory, and other capacity to ensure country emergency preparedness and response to outbreaks and incidents of local and international interest; (3) provides program support, resources, and technical assistance to DGHP country offices, CDC regional offices, and other programs; (4) coordinates and supports research and other scientific projects to estimate disease burden, characterize sources and causes of illness, and assess system effectiveness or impact and disease prevention interventions; (5) in collaboration and coordination with CIO partners, supports surveillance and laboratory systems, facilitates emerging infectious disease detection and response, pandemic influenza preparedness, zoonotic disease investigation, biosafety, and other global health protection activities; (6) in collaboration with subject matter experts and with public and private sector laboratory organizations, provides technical assistance, consultation and training to CDC country offices and other international partners to develop and maintain international public health laboratories and surveillance systems; (7) in collaboration with other divisions and CIOs, defines and promotes public health laboratory quality standards and practices; (8) develops and conducts training to facilitate timely transfer of newly emerging laboratory, informatics and other technology; (9) coordinates CDC's support to WHO's Integrated Disease Surveillance and Response strategy; (10) conducts surveillance activities in overseas sites to serve as early warning detection platforms for disease outbreaks; and (11) serves as a principal point of coordination for USG interagency partners involved in international disease surveillance and situational awareness activities.

Global Operations and Strategic Management Branch (CBBEE). The Global Operations and Strategic Management Branch provides oversight, standardization, accountability, and coordination of support for cross-cutting management and operations and program planning functions for DGHP at HQ and in-country. Specifically, it: (1) Coordinates the DGHP integrated program planning process and provides program planning, management, & technical assistance for HQ and country offices; (2) liaises and collaborates with other DGHP branches, CDC financial and procurement-related units and offices, other CDC and Department of Health and Human Services (HHS) programs and offices, USG agencies, and national and international organizations on overseas management and operations priorities; (3) implements risk management activities in collaboration with DGHP OD for HQ and in-country; (4) provides budget formulation, management, monitoring, and technical assistance for the division including spend planning, budget management support, and annual close-out processes; (5) provides financial reporting oversight and support for the division, including partnerships and interagency agreements; (6) provides funding and budgetary data for regular reports including HHS and Office of Management and Budget reports, GAO and IG audits, country program reviews, and other requests; (7) facilitates and manages the development, clearance, and award of DGHP grants, cooperative agreements, and contracts, including assisting country offices and DGHP branches in determining the appropriate funding mechanism to support DGHP activities; (8) provides oversight, monitoring, and facilitates reporting for all DGHP grants, cooperative agreements, and contracts; (9) provides oversight, support, and coordination of training and development activities for project officers and CORs; (10) provides overall coordination of management, operations, and administrative support and technical assistance to DGHP country offices including support that cannot otherwise be provided in-country; (11) serves as a key linkage between DGHP headquarters and DGHP country offices coordinating calls and liaising with interagency and intra-agency partners; (12) provides oversight of in-country purchasing, property management, facilities, motor pool, and records management; (13) provides training and tools the technical skills and problem-solving abilities of country program managers and locally employed staff who work in management, operations, budget and extramural areas; and (14) liaises and collaborates with other DGHP branches, CDC financial and procurement-related units and offices, other CDC and HHS programs and offices, USG agencies, and national and international organizations on overseas management and operations priorities.

Sherri Berger,
Chief Operating Officer, Center for Disease Control and Prevention.

[FR Doc. 2020-24603 Filed 11-4-20; 8:45 am]

BILLING CODE 4163-18-P